SMALL BUSINESS ADMINISTRATION

[Disaster Declaration #10557 and #10558]

Ohio Disaster Number OH-00007

AGENCY: U.S. Small Business Administration.

ACTION: Amendment 1.

SUMMARY: This is an amendment of the Presidential declaration of a major disaster for the State of Ohio (FEMA-1656-DR), dated 08/01/2006.

Incident: Severe Storms, Straight Line Winds, and Flooding.

Incident Period: 07/27/2006 and continuing through 08/04/2006.

Effective Date: 08/04/2006.

Physical Loan Application Deadline Date: 10/02/2006.

Eidl Loan Application Deadline Date: 05/01/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Ohio, dated 08/01/2006, is hereby amended to establish the incident period for this disaster as beginning 07/27/2006 and continuing through 08/04/2006.

All other information in the original declaration remains unchanged.

(Catalog of Federal Domestic Assistance Numbers 59002 and 59008)

Roger B. Garland,
Acting Associate Administrator for Disaster Assistance.

[FR Doc. E6-13646 Filed 8-17-06; 8:45 am]

BILLING CODE 8025-01-P